DEPARTMENT OF TRANSPORTATION

Federal Aviation Administration

14 CFR Part 39

[Docket No. FAA-2010-1273; Directorate Identifier 2010-NM-089-AD]

RIN 2120-AA64

Airworthiness Directives; Airbus Model A310-203, -204, -222, -304, -322, and -324 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

A specific area, the lower tail plane cut-out located in the tail cone is subject to an inspection programme [for cracking] * * *.

* * * * *

The unsafe condition is reduced structural integrity of the tail cone. The proposed AD would require actions that are intended to address the unsafe condition described in the MCAI.

DATES: We must receive comments on this proposed AD by February 17, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2010-1273; Directorate Identifier 2010-NM-089-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0058, dated March 13, 2009 (referred to after this as “the MCAI”), to correct an unsafe condition for the specified products. The MCAI states:

A specific area, the lower tail plane cut-out located in the tail cone is subject to an inspection programme specified in the Airbus Service Bulletin (SB) A310-53-2074. EASA issued AD 2007-0053 [which superseded French AD 1992-106-132 R6; French AD 1992-106-132 corresponds to FAA AD 98-26-01] to require the accomplishment of this SB at Revision 03.

Airbus has established that this SB needed to be revised in order to state correct threshold and intervals due to errors introduced at revision 03. Consequently, revision 04 of this SB has been issued, and opportunity was taken:

—To clarify the inspection area and associated threshold and intervals

—To take aeroplane utilisation into consideration, in accordance with the A310 life extension programme.

For the reasons stated above, this EASA AD takes over the requirements of paragraph 1.16 of EASA AD 2007-0053R1 [currently at R3], which has been revised accordingly, and requires accomplishment of the instructions contained in Airbus SB A310-53-2074 at Revision 04.

The unsafe condition is reduced structural integrity of the tail cone. The required actions include repetitive and one-time inspections, depending on the area, of the lower tail plane cut-out, and corrective actions if necessary. The inspections include the following:

• Detailed inspections in areas 1, 2, and 3 for cracking and corrosion of the lower horizontal stabilizer cutout longeron, the corner fitting, the skin strap, and the skin.

• Detailed inspections in areas 1, 2, and 3 for damaged sealant.

• Eddy current inspections in area 1 for cracking.

• Eddy current inspections in area 2 for cracking.

• Rotating probe inspection for cracking of specified fastener holes in Area 3.

The corrective actions, depending on the conditions found, include the following:

• Repairing corrosion.

• Contacting Airbus for repair instructions.

• Replacing damaged sealant.

• Removing cracking.

• Doing an eddy current inspection for cracking of the reworked area.

• Installing a new corner fitting.

• Doing a rotating probe inspection for cracking of fastener holes.

• Doing an eddy current inspection of the longeron and outer skin.

• Drilling or reaming fastener holes.

You may obtain further information by examining the MCAI in the AD docket.

Other Relevant Rulemaking

We are considering issuing three other NPRMs related to this NPRM:

• Directorate Identifier 2010-NM-092-AD. That NPRM proposes to supersede AD 98-26-01, amendment 39-10942 (63 FR 69179, December 16, 1998), to continue to require certain actions specified in that AD. However, that NPRM does not restate paragraph (q) of AD 98-26-01. Instead, certain requirements of paragraph (q) of that AD are included in this NPRM, Directorate Identifier 2010-NM-089-AD.

• Directorate Identifiers 2010-NM-090-AD and 2010-NM-091-AD. Both of these NPRMs include the requirements of certain other paragraphs of AD 98-26-01.

Relevant Service Information

Airbus has issued Mandatory Service Bulletin A310-53-2074, Revision 04, dated October 24, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 44 products of U.S. registry. We also estimate that it would take about 36 work-hours per product to comply with the basic requirements of this proposed AD. The average labor rate is $85 per work-hour. Based on these figures, we estimate the cost of the proposed AD on U.S. operators to be $134,640, or $3,060 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2010-1273; Directorate Identifier 2010-NM-089-AD.

Comments Due Date

(a) We must receive comments by February 17, 2011.

Affected ADs

(b) None.

Applicability

(c) This AD applies to Model A310-203, -204, -222, -304, -322, and -324 airplanes, certificated in any category, all serial numbers, except airplanes on which Airbus modification 06146 has been done in production.

Subject

(d) Air Transport Association (ATA) of America Code 53: Fuselage.

Reason

(e) The mandatory continuing airworthiness information (MCAI) states:

A specific area, the lower tail plane cut-out located in the tail cone is subject to an inspection programme [for cracking] * * *.

* * * * *

The unsafe condition is reduced structural integrity of the tail cone.

Compliance

(f) You are responsible for having the actions required by this AD performed within the compliance times specified, unless the actions have already been done.

Initial Inspections of the Lower Tail Plane Cut-Out Area and Corrective Actions

(g) Within the applicable time specified in Table 1 of this AD, do the inspections of the lower tail plane cut-out area in the tail cone specified in paragraphs (g)(1), (g)(2), (g)(3), (g)(4), (g)(5), and (g)(6) of this AD, as applicable, in accordance with the Accomplishment Instructions of Airbus Mandatory Service Bulletin A310-53-2074, Revision 04, dated October 24, 2008 (“the service bulletin”). Certain compliance times are applicable to short-range use (i.e., average flight time (AFT) equal to or less than 4 flight hours), or long-range use (i.e., AFT exceeding 4 flight hours). Inspection areas are specified in the service bulletin.

Note 1: To establish the average flight time, take the accumulated flight time (counted from the take-off up to the landing) and divide by the number of accumulated flight cycles. This gives the average flight time per flight cycle.

Table 1—Initial Compliance Time
Airplanes | Inspection areas | Compliance time (whichever occurs later)
Model A310-203, A310-204, and A310-222 airplanes | 1 and 2 | Prior to the accumulation of 18,000 total flight cycles or 36,000 total flight hours, whichever occurs first | Within 1,500 flight cycles or 3,000 flight hours, whichever occurs first, after the effective date of this AD.
Model A310-203, A310-204, and A310-222 airplanes | 3 | Prior to the accumulation of 24,000 total flight cycles or 48,000 total flight hours, whichever occurs first | Within 1,500 flight cycles or 3,000 flight hours, whichever occurs first, after the effective date of this AD.
Model A310-304, A310-322, and A310-324 short range airplanes | 1 and 2 | Prior to the accumulation of 12,000 total flight cycles or 33,750 total flight hours, whichever occurs first | Within 1,200 flight cycles or 3,300 flight hours, whichever occurs first, after the effective date of this AD.
Model A310-304, A310-322, and A310-324 short range airplanes | 3 | Prior to the accumulation of 18,000 total flight cycles or 50,500 total flight hours, whichever occurs first | Within 1,200 flight cycles or 3,300 flight hours, whichever occurs first, after the effective date of this AD.
Model A310-304, A310-322, and A310-324 long range airplanes | 1 and 2 | Prior to the accumulation of 7,500 total flight cycles or 37,500 total flight hours, whichever occurs first | Within 750 flight cycles or 3,750 flight hours, whichever occurs first, after the effective date of this AD.
Model A310-304, A310-322, and A310-324 long range airplanes | 3 | Prior to the accumulation of 11,250 total flight cycles or 56,000 total flight hours, whichever occurs first | Within 750 flight cycles or 3,750 flight hours, whichever occurs first, after the effective date of this AD.

(1) For areas 1, 2, and 3: Do a detailed inspection for cracking and corrosion of the lower horizontal stabilizer cutout longeron, the corner fitting, the skin strap, and the skin, in accordance with the Accomplishment Instructions of the service bulletin.

(i) If any corrosion is found, before further flight, repair in accordance with the Accomplishment Instructions of the service bulletin.

(ii) If any cracking is found, before further flight, contact Airbus for repair instructions and do the repair.

(2) For areas 1, 2, and 3 on which cracking is not found during the inspection required by paragraph (g)(1) of this AD: Do a detailed inspection for damaged sealant; and, if any damaged sealant is found, before further flight, replace the sealant; in accordance with the Accomplishment Instructions of the service bulletin.

(3) For area 1: Do an eddy current inspection for cracking in area 1; and, if no cracking is found, before further flight, apply sealant and corrosion compound, as applicable; in accordance with the Accomplishment Instructions of the service bulletin.

(i) If cracking is equal to or less than 2.0 mm (0.079 inch) long and not more than 2 cracks with a minimum distance of 50.0 mm (1.969 inch) between the cracks: Before further flight, remove any cracking and do an eddy current inspection for cracking of the reworked area, in accordance with the Accomplishment Instructions of the service bulletin. If no cracking is found, before further flight, shot peen the reworked area, in accordance with the Accomplishment Instructions of the service bulletin.

(A) If cracking is found and the radius of the rework is less than 20.0 mm (0.787 inch), before further flight, increase the radius and do an eddy current inspection for cracking of the reworked area, in accordance with the Accomplishment Instructions of the service bulletin. If no cracking is found, before further flight, shot peen the reworked area, in accordance with the Accomplishment Instructions of the service bulletin.

(1) If any cracking is found in the outer skin, before further flight, contact Airbus for repair instructions and do the repair.

(2) If any cracking is found in the corner fitting and area 3 has not been cold expanded, before further flight, install new corner fitting, in accordance with the Accomplishment Instructions of the service bulletin, and do the rotating probe inspection in area 3 specified in paragraph (g)(5) of this AD.

(3) If any cracking is found in the corner fitting and area 3 has been cold expanded, before further flight, do the eddy current inspection of the longeron and outer skin specified in paragraph (g)(6) of this AD.

(B) If cracking is found and the radius of the rework is 20.0 mm (0.787 inch) or more, before further flight, repair in accordance with a method approved by either the Manager, International Branch, ANM-116, FAA, Transport Airplane Directorate, or the European Aviation Safety Agency (EASA) (or its delegated agent).

(ii) If cracking is greater than 2.0 mm (0.079 inch) long or there are more than 2 cracks; or if there are more than 2 cracks with less than a minimum distance of 50.0 mm (1.969 inch) between the cracks: Before further flight, remove the corner fitting, and do the applicable actions specified in paragraph (g)(3)(ii)(A) or (g)(3)(ii)(B) of this AD.

(A) If any cracking is found and area 3 has not been cold expanded, before further flight, install a new corner fitting, in accordance with the Accomplishment Instructions of the service bulletin; and do the rotating probe inspection in area 3 specified in paragraph (g)(5) of this AD.

(B) If any cracking is found and area 3 has been cold expanded, before further flight, do the eddy current inspection of the longeron and outer skin specified in paragraph (g)(6) of this AD.

(4) For area 2: Do an eddy current inspection for cracking of area 2, in accordance with the Accomplishment Instructions of the service bulletin. If any cracking is found, before further flight, contact Airbus for repair instructions and do the repair.

(5) For area 3: Do a rotating probe inspection for cracking of specified fastener holes in area 3, in accordance with the Accomplishment Instructions of the service bulletin.

(i) If no cracking is found, before further flight, drill or ream fastener holes, cold expand the fastener holes and countersinks, and wet install with sealant, in accordance with the Accomplishment Instructions of the service bulletin; except where the service bulletin specifies to contact Airbus if the fastener diameter does not meet specifications or if the distance between the hole center and material edge is less than specifications, before further flight, contact Airbus for repair instructions and do the repair.

(ii) If cracking is found, before further flight, drill or ream fastener holes, and do a rotating probe inspection for cracking of the fastener holes in accordance with the Accomplishment Instructions of the service bulletin.

(A) If no cracking is found, cold expand the fastener holes and countersinks, drill or ream fastener holes, and wet install with sealant, in accordance with the Accomplishment Instructions of the service bulletin; except where the service bulletin specifies to contact Airbus if the fastener diameter does not meet specifications or if the distance between the hole center and material edge is less than the specifications, before further flight, contact Airbus for repair instructions and do the repair.

(B) If cracking is found, before further flight, contact Airbus for repair instructions and do the repair.

(6) For airplanes on which cracking is found in the corner fitting during any inspection required by paragraph (g)(3) of this AD and area 3 is cold-expanded: Do an eddy current inspection for cracking of the longeron and outer skin, in accordance with the Accomplishment Instructions of the service bulletin.

(i) If no cracking is found, before further flight, install a new corner fitting and do a rotating probe inspection for cracking of the fastener holes, in accordance with the Accomplishment Instructions of the service bulletin.

(A) If no cracking is found, before further flight, drill or ream fastener holes, cold expand the fastener holes and countersinks, and wet install with sealant, in accordance with the Accomplishment Instructions of the service bulletin.

(B) If cracking is found and the hole diameter is less than the maximum oversize specification, before further flight, drill or ream holes and do a rotating probe inspection for cracking of the fastener holes, in accordance with the service bulletin.

(1) If no cracking is found, cold expand the fastener holes and countersinks, and wet install with sealant, in accordance with the Accomplishment Instructions of the service bulletin.

(2) If cracking is found, before further flight, contact Airbus for repair instructions and do the repair.

(C) If cracking is found and the hole diameter is equal to or greater than the maximum oversize specification, before further flight, contact Airbus for repair instructions and do the repair.

(ii) If cracking is found, before further flight, contact Airbus for repair instructions and do the repair.

Repetitive Inspections of the Lower Tail Plane Cut-Out Area

(h) Repeat the inspections for area 1 required by paragraphs (g)(1) and (g)(3) of this AD thereafter at the applicable intervals specified in Table 2 of this AD. Certain compliance times are applicable to short-range use (AFT equal to or less than 4 flight hours), or long-range use (AFT exceeding 4 flight hours). Inspection areas are specified in the service bulletin.

Table 2—Repetitive Interval for Areas 1 and 2
Affected airplanes | Interval (not to exceed)
(1) Model A310-203, A310-204, and A310-222 airplanes that have accumulated less than 30,000 total flight cycles and 60,000 total flight hours, as of the effective date of this AD | 6,000 flight cycles or 12,000 flight hours, whichever occurs first, until the airplane accumulates 30,000 total flight cycles or 60,000 total flight hours; then perform the inspections within the interval specified in paragraph (h)(2) of this AD.
(2) Model A310-203, A310-204, and A310-222 airplanes that have accumulated 30,000 total flight cycles or more or 60,000 total flight hours or more, as of the effective date of this AD | 3,900 flight cycles or 7,800 flight hours, whichever occurs first.
(3) Model A310-304, A310-322 and A310-324 short range airplanes that have accumulated less than 24,000 total flight cycles and 67,500 total flight hours, as of the effective date of this AD | 4,800 flight cycles or 13,500 flight hours, whichever occurs first, until the airplane accumulates 24,000 total flight cycles or 67,500 total flight hours; then perform the inspections within the interval specified in paragraph (h)(4) of this AD.
(4) Model A310-304, A310-322 and A310-324 short range airplanes that have accumulated 24,000 total flight cycles or more or 67,500 total flight hours or more, as of the effective date of this AD | 3,100 flight cycles or 8,750 flight hours, whichever occurs first.
(5) Model A310-304, A310-322 and A310-324 long range airplanes that have accumulated less than 15,000 total flight cycles and 75,000 total flight hours, as of the effective date of this AD | 3,000 flight cycles or 15,000 flight hours, whichever occurs first, until the airplane accumulates 15,000 total flight cycles or 75,000 total flight hours; then perform the inspections within the interval specified in paragraph (h)(6) of this AD.
(6) Model A310-304, A310-322 and A310-324 long range airplanes that have accumulated 15,000 total flight cycles or more or 75,000 total flight hours or more, as of the effective date of this AD | 1,950 flight cycles or 9,750 flight hours, whichever occurs first.

(i) Repeat the inspections for area 2 required by paragraphs (g)(1) and (g)(4) of this AD thereafter at the applicable intervals specified in Table 2 of this AD. Certain compliance times are applicable to short-range use (AFT equal to or less than 4 flight hours), or long-range use (AFT exceeding 4 flight hours). Inspection areas are specified in the service bulletin.

Credit for Actions Accomplished in Accordance With Previous Service Information

(j) Inspections accomplished before the effective date of this AD in accordance with Airbus Mandatory Service Bulletin A310-53-2074, Revision 03, dated October 13, 2006, are considered acceptable for compliance with the corresponding action specified in this AD.

FAA AD Differences

Note 2: This AD differs from the MCAI and/or service information as follows: The MCAI and service information do not specify a corrective action if cracking is found and the radius of the rework is 20.0 mm (0.787 inch) or more. Paragraph (g)(3)(i)(B) of this AD requires repair in accordance with a method approved by either the Manager, International Branch, ANM-116, FAA, Transport Airplane Directorate, or EASA (or its delegated agent).

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(l) Refer to MCAI EASA Airworthiness Directive 2009-0058, dated March 13, 2009; and Airbus Mandatory Service Bulletin A310-53-2074, Revision 04, dated October 24, 2008; for related information.

Issued in Renton, Washington, on December 17, 2010.
Ali Bahrami,
Manager, Transport Airplane Directorate, Aircraft Certification Service.

[FR Doc. 2010-32991 Filed 12-30-10; 8:45 am]

BILLING CODE 4910-13-P